DEPARTMENT OF ENERGY

Federal Energy Regulatory Commission

Combined Notice of Filings

Take notice that the Commission has received the following Natural Gas Pipeline Rate and Refund Report filings:

Filings Instituting Proceedings

Docket Numbers: RP22-922-000.

Applicants: Viking Gas Transmission Company.

Description: § 4(d) Rate Filing: Amendment to Non-Conforming Agreement AF0360 with NSP to be effective 11/1/2022.

Filed Date: 5/13/22.

Accession Number: 20220513-5049.

Comment Date: 5 p.m. ET 5/25/22.

Docket Numbers: RP22-923-000.

Applicants: Rockies Express Pipeline LLC.

Description: Compliance filing: REX 2022-05-13 2022 Annual Penalty Charge Reconciliation to be effective N/A.

Filed Date: 5/13/22.

Accession Number: 20220513-5062.

Comment Date: 5 p.m. ET 5/25/22.

Docket Numbers: RP22-924-000.

Applicants: Tallgrass Interstate Gas Transmission, LLC.

Description: Compliance filing: TIGT 2022-05-13 2022 Annual Penalty Charge Reconciliation to be effective N/A.

Filed Date: 5/13/22.

Accession Number: 20220513-5064.

Comment Date: 5 p.m. ET 5/25/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-1060-005.

Applicants: Columbia Gas Transmission, LLC.

Description: Refund Report: Settlement Refund Report—RP20-1060 et al. to be effective N/A.

Filed Date: 5/13/22.

Accession Number: 20220513-5068.

Comment Date: 5 p.m. ET 5/25/22.

Docket Numbers: RP21-388-000.

Applicants: Gulf South Pipeline Company, LLC.

Description: Report Filing: Compliance Activity Report Filing in Docket No. RP21-388-000 to be effective N/A.

Filed Date: 5/12/22.

Accession Number: 20220512-5088.

Comment Date: 5 p.m. ET 5/24/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2022.
Kimberly D. Bose,
Secretary.

[FR Doc. 2022-10777 Filed 5-18-22; 8:45 am]

BILLING CODE 6717-01-P